DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held December 8, 2010 from 8:30 a.m. to 1:30 p.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Program Management Committee meeting. The agenda will include:

• Opening Plenary (Welcome and Introductions)

• Review/Approve Summary of September 15, 2010 PMC meeting, RTCA Paper No. 198-10/PMC-826.

• Publication Consideration/Approval

• Final Draft, New Document, Safety, Performance and Interoperability Requirements Document for ATSA-SURF Application, RTCA Paper No. 197-10/PMC-825, prepared by SC-186.

• Final Draft, New Document, Safety, Performance and Interoperability Requirements Document for ADS-B Airport Surface Surveillance Application (ADS-B-APT), RTCA Paper No. 200-10/PMC-828, prepared by SC-186.

• Final Draft, New Document, Safety, Performance and Interoperability Requirements Document for Enhanced Traffic Situational Awareness on the Airport Surface with Indications and Alerts, RTCA Paper No. 194-10/PMC-824, prepared by SC-186.

• Final Draft, Revised DO-160F, Environmental Conditions and Test Procedures for Airborne Equipment, RTCA Paper No. 201-10/PMC-829, prepared by SC-135.

• Final Draft, New Document, Safety and Performance Requirements (SPR) for Aeronautical Information Services (AIS) and Meteorological (MET) Data Link Services, RTCA Paper No. 202-10/PMC-830, prepared by SC-206.

• Final Draft, New Document, Airworthiness Security Process Specification, RTCA Paper No. 203-10/PMC-831, prepared by SC-216.

• Final Draft, New Document, Minimum Operational Performance Standards for Automatic Flight Guidance and Control Systems and Equipment, RTCA Paper No. 204-10/PMC-832, prepared by SC-220.

• Integration and Coordination Committee (ICC)—Status Report

• Action Item Review

• SC-206—Aeronautical Information Services (AIS) Data Link—Review/Approve Revised Terms of Reference—Co-Chairman Review/Approval

• MASPS/MOPS/SPR/Concepts—Discussion

• Discussion

• Rechargeable and Permanently Installed Lithium Batteries—Small and Medium Size—Discussion—Possible New Special Committee

• SC-222—Inmarsat AMS(R)S—Discussion—Review/Approve Revised Terms of Reference

• SC-219—Attitude and Heading Reference Systems (AHRS)—Discussion—Review/Approve Revised Terms of Reference

• SC-217/WG-44—Terrain and Airport Databases—Discussion—Review/Approve Revised Terms of Reference

• SC-216—Aeronautical Systems Security—Discussion—Review/Approve Revised Terms of Reference

• SC-214/WG-78—Standards for Air Traffic Data Communications Services—Discussion—Review/Approve Revised Terms of Reference

• SC-203—Unmanned Aircraft Systems—Co-Chairman Review/Approval

• SC-135—Environmental Test—Discussion—Review/Approve Revised Terms of Reference

• SC-159—Global Positioning System—Discussion—Committee Status

• Trajectory Operations—Discussion—Status

• Special Committees—Chairmen's Reports SC-216—Aeronautical Systems

• Closing Plenary (Other Business, Document Production and PMC Meeting Schedule Meeting, Adjourned)

Attendance is open to the interested public but limited to space availability. With the approval of the chairman, members of the public may present oral statements at the meeting. Persons wishing to present statements or obtain information should contact the person listed in the FOR FURTHER INFORMATION CONTACT section.

Members of the public may present a written statement to the committee at any time.

Issued in Washington, DC, on November 15, 2010.
Robert L. Bostiga,
RTCA Advisory Committee.

[FR Doc. 2010-29295 Filed 11-19-10; 8:45 am]

BILLING CODE 4910-13-P